DEPARTMENT OF COMMERCE

National Oceanic and Atmospheric Administration

RIN 0648-XE607

International Trade Data System Test Concerning the Electronic Submission of Certain Data Required for Exports

AGENCY: National Marine Fisheries Service (NMFS), National Oceanic and Atmospheric Administration (NOAA), Commerce.

ACTION: Notice; request for comments.

SUMMARY: NMFS announces, in consultation with U.S. Customs and Border Protection (CBP), a test of the International Trade Data System (ITDS) involving the electronic submission of forms and/or data, related to exportation of fish products regulated by NMFS, using the export Partner Government Agency (PGA) data set of the Automated Export System (AES) Trade Interface Requirements, AES Direct via the Automated Commercial Environment (ACE) Secure Web Portal (Portal) and the Document Image System (DIS). CBP and NMFS have developed a plan to test and assess the electronic transmission of export and re-export data for tunas, swordfish and toothfish.

The test will involve using the above referenced methods to transmit the data required for processing exports or re-exports of tunas, swordfish and toothfish. Under this test, data may be submitted for the covered fish products exported from any operational port.

DATES: The test will commence after June 1, 2016, and will continue until concluded by publication of a notice in the Federal Register ending the test. Participants should consult the following Web site to determine which ports are operational for the test and the date that they become operational: https://www.cbp.gov/trade/ace/features (see the PGA Integration tab). Comments on the submission and processing of export data will be accepted throughout the duration of the test.

ADDRESSES: To submit comments concerning this test program, send an email to Josephine Baiamonte (Josephine.Baiamonte@dhs.gov), Director, Business Transformation, ACE Business Office (ABO), Office of International Trade. In the subject line of an email, please use, “Comment on NMFS Export Test FRN”.

Any party seeking to participate in this test should contact their client representative. Interested parties without an assigned client representative should submit an email to Steven Zaccaro at steven.j.zaccaro@cbp.dhs.gov with the subject heading “NMFS Export FRN-Request to Participate”.

FOR FURTHER INFORMATION CONTACT: For technical questions related to the Automated Commercial Environment (ACE) or AES transmissions, contact your assigned client representative. Interested parties without an assigned client representative should direct their questions to Steven Zaccaro at steven.j.zaccaro@cbp.dhs.gov. For PGA reporting related questions, contact Emi Wallace (CBP) at emi.r.wallace@cbp.dhs.gov and for NMFS program related questions, contact Dale Jones (NMFS) at dale.jones@noaa.gov.

SUPPLEMENTARY INFORMATION:

Background

I. The Automated Commercial Environment

ACE is an automated and electronic system for commercial trade processing, which is intended to streamline business processes, facilitate growth in trade, ensure cargo security, and foster participation in global commerce, while ensuring compliance with U.S. laws and regulations and reducing costs for CBP and all of its communities of interest. The ability to meet these objectives depends on successfully modernizing CBP's business functions and the information technology that supports those functions.

CBP's modernization efforts are accomplished through phased releases of ACE component functionality designed to replace a specific function of the legacy Automated Commercial System (ACS) function. Each release will begin with a test and will end with mandatory use of the new ACE feature, thus retiring the legacy ACS function. Each release builds on previous releases and sets the foundation for subsequent releases. AES allows participants to electronically file required export data with CBP in ACE.

II. International Trade Data System

This test is in furtherance of the ITDS, which is statutorily authorized by section 405 of the Security and Accountability for Every (SAFE) Port Act of 2006, Public Law 109-347. The purpose of ITDS, as defined by section 4 of the SAFE Port Act of 2006, is to eliminate redundant information filing requirements, efficiently regulate the flow of commerce, and effectively enforce laws and regulations relating to international trade, by establishing a single portal system, operated by CBP, for the collection and distribution of standard electronic import and export data required by all participating Federal agencies.

III. AES, the ACE Secure Web Data Portal and the Document Image System

AES is the electronic method for the U.S. Principal Party in Interest (USPPI) or their authorized agent to file export commodity and transportation information, known as Electronic Export Information (EEI), directly with CBP and the Census Bureau. EEI is the electronic equivalent to the Shipper's Export Declaration (SED), a paper form previously used by exporters to report export information. The purpose of AES is to be the central point through which CBP collects and maintains export data and related records to facilitate CBP's law enforcement and border security missions. CBP uses EEI to further its mission of ensuring the safety and security of cargo and preventing smuggling, expediting legitimate international trade and enforcing export and other applicable U.S. laws. The Census Bureau uses EEI to compile and publish export trade statistics.

On April 5, 2014, AES was re-engineered and incorporated into ACE. General information and a list of AES certified software vendors is available on the following Web site: http://www.cbp.gov/trade/aes. That Web site also has information regarding AES Trade Interface Requirements (AESTIR) and the American National Standards Institute standard known as ANSI X.12, which together contain the formatting requirements for the electronic transmission of commodity and transportation export data to CBP via AES.

AES offers several options for transmitting export commodity and transportation data, which includes the choice of using software developed by the user, software purchased from a vendor, a Value Added Network (VAN) electronic mailbox, the facilities of a port authority or service center, or AESDirect, a free internet application supported by the Census Bureau. AESDirect came on-line in October 1999 and allowed USPPIs or their authorized agents to file EEI free of charge using a variety of electronic transmission methods, the most popular of which is a web-based portal through which users may file any required EEI. AESDirect also provided USPPIs or their authorized agents with access to export reports that compiled the data from EEI filings associated with a user account.

In the fall of 2015, CBP announced the establishment of the ACE Exporter Account Portal enabling USPPIs or their authorized agents to transmit EEI by selecting the “Submit AESDirect Filings” link in the exporter view (see 80 FR 63817, October 21, 2015). Selecting this link allows USPPIs or their authorized agents to gain access to the AESDirect portal in ACE that will allow them to file their required EEI. ACE AESDirect has replaced the legacy AESDirect operated by the Census Bureau and provides online internet filing and upload capabilities to facilitate the transmission of EEI.

In addition, test participants may transmit required PGA forms using the DIS. For information regarding the use of DIS, and for a list of NMFS forms and documents which may be transmitted to ACE using DIS, please see http://www.cbp.gov/trade/ace/features (see the PGA Integration tab).

At this time, ACE is prepared to accept certain PGA data elements for NMFS regulated fish products exported or re-exported from ports included in the test. The PGA data elements comprising the test are generally those found in the current paper forms (Bluefin Tuna Catch Document, Swordfish Statistical Document, Bigeye Statistical Document, Dissostichus Catch Document, and the associated re-export certificates, if any), which are currently filed via fax, email, and/or paper communications directly with NMFS. These data elements are set forth in the AESTIR (see https://www.cbp.gov/trade/aes).

Upon commencement of this test, operational ports will begin accepting the transmission of this data and DIS documents and forms. A list of those ports and the date they become operational is provided on the following Web site: https://www.cbp.gov/trade/ace/features (see the PGA Integration tab). Test participants and interested parties should consult the above-referenced Web site for changes/additions to the list of ports where NMFS data and DIS forms and documents may be sent.

IV. The National Marine Fisheries Service Test

This ITDS test is in furtherance of key CBP ITDS initiatives as provided in the SAFE Port Act of 2006. The goal is to establish ACE as the “single window” for the Government and trade community by automating and enhancing the interaction between international trade partners, CBP, and PGAs by facilitating electronic collection, processing, sharing, and review of trade data and documents required by Federal agencies during the cargo import and export process. Processing trade data through ITDS and ACE will significantly increase efficiency and reduce costs over the manual, paper-based interactions that are currently in place. The transmission of this data will improve communication between NMFS and exporters, and will allow test participants to submit the required data once rather than submitting data separately to CBP and NMFS, resulting in quicker processing. During this test, participants will collaborate with CBP and NMFS to examine the effectiveness of the “single window” capability.

Currently, NMFS programmatic requirements for exports are separated into two different programs: The Highly Migratory Species (HMS) Program which includes various tunas and swordfish, and the Antarctic Marine Living Resources (AMLR) program which covers fresh and frozen toothfish (Dissostichus species). Under this test, NMFS required data will be transmitted electronically through ACE for any merchandise or combination thereof covered by any of these programs.

For approved participants, the test may include all modes of transport at the selected port(s), and all commodities regulated under the two NMFS export monitoring programs when exported at one of the selected ports. The export declaration process for NMFS will require the submission of specifically designated data/information. Both the transmission of the required data for NMFS and DIS will be utilized to collect the specified information that is required by NMFS.

The data will be transmitted in ACE through the use of AES at the time of the filing in addition to the CBP required export data. Scanned copies of specific documents required will be submitted at the time of filing to the CBP DIS, either through uploading the file copies to the AES system or by sending them to the DIS as email attachments.

Examples of the kind of data that will be transmitted as part of this test are: the exporter's permit number and a document number for the catch certificate or re-export certificate. Examples of the types of scanned images that will be submitted to the DIS are: the international statistical documents pertaining to the harvest, re-export documents for product imported and re-exported from another country before shipment to the United States, or other specific and required catch/harvest documentation pertaining to the product being exported. Note that in cases where an electronic bluefin tuna catch document (eBCD) has been created in the centralized system implemented by the International Commission for the Conservation of Atlantic Tunas, a reduced data set consisting of the eBCD number and the exporter permit number would suffice as an export filing, without need for any forms submitted via DIS.

For information regarding fish products regulated by NMFS and data, information, forms and documents required by NMFS, see the implementation guidelines for the NMFS at: https://www.cbp.gov/trade/aes.

V. Test Participation Criteria and Participation Procedure

Any party seeking to participate in this test must provide CBP, in their request to participate, their filer code and the port(s) at which they are interested in filing the appropriate PGA data set and DIS information. Requests to participate in this test will be accepted throughout the duration of the test. To be eligible to apply for this test, the applicant must be a self-filing exporter who has the ability to file AES export declarations or a broker who has the ability to file AES export declarations; and the applicant files declarations for NMFS commodities that are the subject of this test. All test participants are required to use a software program that has completed ACE certification testing for export data. At this time, data and DIS submissions may be submitted for exports filed at any operational port. Test participants should contact their client representative regarding export declarations eligible for the test and operational ports (see ADDRESSES). A current listing of the participating ports and the date each port becomes operational for the test may be found on the designated Web site (see DATES).

VI. Anticipated Process Changes

The current paper process for reporting exports under the NMFS Highly Migratory Species (HMS) and the Antarctic Marine Living Resources (AMLR) Programs will be replaced by the submittal of data and scanned document images through a combination of AESTIR data transmission and DIS. A proposed rule to address this planned transition was published on December 29, 2015 (80 FR 81251). This test covers communication and coordination among the agencies and the filers for the exportation of these fisheries products. The agencies will also be testing new operational processes in real time with actual ACE filings in the production environment that include test messages to communicate errors in filing and release status updates to the port and to the filer.

VII. Confidentiality

All data submitted and entered into ACE is subject to the Trade Secrets Act (18 U.S.C. 1905) and is considered confidential, except to the extent as otherwise provided by law. As stated in previous notices, participation in this or any of the previous ACE tests is not confidential and upon a written Freedom of Information Act (FOIA) request, a name(s) of an approved participant(s) will be disclosed by CBP in accordance with 5 U.S.C. 552.

Dated: May 27, 2016.
Jeffrey Weir,
Acting Director, Office for International Affairs and Seafood Inspection, National Marine Fisheries Service.

[FR Doc. 2016-13125 Filed 6-2-16; 8:45 am]

BILLING CODE 3510-22-P